DEPARTMENT OF ENERGY

Federal Energy Regulatory Commission

[Docket Nos. EG12-108-000, et al.]

Notice of Effectiveness of Exempt Wholesale Generator or Foreign Utility Company Status

| Docket Nos.
Prairie Rose Wind, LLC | EG12-108-000
Prairie Rose Transmission, LLC | EG12-109-000
Crawfordsville Energy, LLC | EG12-110-000
Catalina Solar, LLC | EG12-111-000
Ocotillo Express LLC | EG12-112-000
Groton Wind, LLC | EG12-113-000
New England Wind, LLC | EG12-114-000
Penascal II Wind Project, LLC | EG12-115-000
Enbridge Wind Power General Partnership | FC12-8-000
Greenwich Windfarm, LP | FC12-9-000
Enbridge Renewable Energy Infrastructure Limited Partnership | FC12-10-000
Project AMBG2 LP | FC12-11-000
SunBridge Wind Power Project | FC12-12-000
Talbot Windfarm, LP | FC12-13-000
Tilbury Solar Project LP | FC12-14-000
Enbridge Lac-Alfred Wind Project Limited Partnership | FC12-15-000

Take notice that during the month of November 2012, the status of the above-captioned entities as Exempt Wholesale Generators or Foreign Utility Companies became effective by operation of the Commission's regulations. 18 CFR 366.7(a).

Dated: December 5, 2012.
Kimberly D. Bose,
Secretary.

[FR Doc. 2012-29847 Filed 12-10-12; 8:45 am]

BILLING CODE 6717-01-P